DEPARTMENT OF ENERGY

Federal Energy Regulatory Commission

Combined Notice of Filings #3

Take notice that the Commission received the following electric corporate filings:

Docket Numbers: EC15-179-000.

Applicants: Calpine Energy Services Holdco LLC, Champion Energy Marketing LLC, Champion Energy Services, LLC, Champion Energy, LLC, Champion Energy Holdings LLC, EDF Trading North America, LLC.

Description: Joint Application for Approval under Section 203 of the Federal Power Act and Request for Expedited Action of Calpine Energy Services Holdco LLC, et al.

Filed Date: 7/31/15.

Accession Number: 20150731-5167.

Comments Due: 5 p.m. ET 8/21/15.

Take notice that the Commission received the following electric rate filings:

Docket Numbers: ER12-2178-014; ER10-2172-026; ER14-2144-005; ER12-2311-013; ER10-2179-029; ER11-2016-019; ER10-2184-025; ER10-1048-023; ER10-2192-025; ER15-1537-002; ER15-1539-002; ER11-2056-019; ER10-2178-025; ER14-1524-006; ER11-2014-022; ER11-2013-022; ER10-3308-023; ER10-1020-021; ER13-1536-009; ER10-1078-021; ER10-1080-021; ER11-2010-022; ER10-1081-022; ER14-2145-004; ER10-2180-025; ER12-2201-013; ER11-2011-022; ER12-2528-012; ER11-2009-022; ER11-3989-018; ER10-2181-029; ER10-1143-022; ER10-2182-029; ER12-1829-012; ER11-2007-019; ER12-1223-017; ER11-2005-022; ER15-1496-002.

Applicants: AV Solar Ranch 1, LLC, Baltimore Gas and Electric Company, Beebe 1B Renewable Energy, LLC, Beebe Renewable Energy, LLC, Calvert Cliffs Nuclear Power Plant, LLC, Cassia Gulch Wind Park LLC, CER Generation, LLC, Commonwealth Edison Company, Constellation Energy Commodities Group Maine, LLC, Constellation Energy Services, Inc., Constellation Energy Services of New York, Inc., Constellation Mystic Power, LLC, Constellation NewEnergy, Inc., Constellation Power Source Generation, LLC, Cow Branch Wind Power, LLC, CR Clearing, LLC, Criterion Power Partners, LLC, Exelon Framingham LLC, Exelon Generation Company, LLC, Exelon New Boston, LLC, Exelon West Medway, LLC, Exelon Wind 4, LLC, Exelon Wyman, LLC, Fourmile Wind Energy, LLC, Handsome Lake Energy, LLC, Harvest II Windfarm, LLC, Harvest Windfarm, LLC, High Mesa Energy, LLC, Michigan Wind 1, LLC, Michigan Wind 2, LLC, Nine Mile Point Nuclear Station, LLC, PECO Energy Company, R.E. Ginna Nuclear Power Plant, LLC, Shooting Star Wind Project, LLC, Tuana Springs Energy, LLC, Wildcat Wind, LLC, Wind Capital Holdings, LLC, 2014 ESA Project Company, LLC.

Description: Notice of Change in Status of the Exelon MBR Entities.

Filed Date: 7/30/15.

Accession Number: 20150730-5270.

Comments Due: 5 p.m. ET 8/20/15.

Docket Numbers: ER15-1772-001.

Applicants: Interstate Power and Light Company.

Description: Compliance filing: IPL Compliance Filing to be effective 7/31/2015.

Filed Date: 7/31/15.

Accession Number: 20150731-5138.

Comments Due: 5 p.m. ET 8/21/15.

Docket Numbers: ER15-2345-000.

Applicants: New York Independent System Operator, Inc.

Description: Section 205(d) Rate Filing: 205 filing re: Cost recovery mechanism for the annual FERC fee to be effective 1/1/2016.

Filed Date: 7/31/15.

Accession Number: 20150731-5159.

Comments Due: 5 p.m. ET 8/21/15.

Docket Numbers: ER15-2346-000.

Applicants: Southwest Power Pool, Inc.

Description: Section 205(d) Rate Filing: 3072 Resale Power Group of Iowa Attachment A to be effective 10/1/2015.

Filed Date: 7/31/15.

Accession Number: 20150731-5166.

Comments Due: 5 p.m. ET 8/21/15.

Docket Numbers: ER15-2347-000.

Applicants: Southwest Power Pool, Inc.

Description: Section 205(d) Rate Filing: Western Area Power Administration Contract Services Agreement to be effective 10/1/2015.

Filed Date: 7/31/15.

Accession Number: 20150731-5170.

Comments Due: 5 p.m. ET 8/21/15.

Docket Numbers: ER15-2348-000.

Applicants: Tucson Electric Power Company.

Description: Section 205(d) Rate Filing: Amendments to Rate Schedule No. 102 to be effective 7/30/2015.

Filed Date: 7/31/15.

Accession Number: 20150731-5174.

Comments Due: 5 p.m. ET 8/21/15.

Docket Numbers: ER15-2349-000.

Applicants: New York Independent System Operator, Inc.

Description: Section 205(d) Rate Filing: 205 filing tariff revision to MST Att. K to ICAP Spot Market provision to be effective 10/28/2015.

Filed Date: 7/31/15.

Accession Number: 20150731-5188.

Comments Due: 5 p.m. ET 8/21/15.

Docket Numbers: ER15-2350-000.

Applicants: Southwest Power Pool, Inc.

Description: Section 205(d) Rate Filing: Attachment AE Revisions to Support the Integration of Western-UGP to be effective 10/1/2015.

Filed Date: 7/31/15.

Accession Number: 20150731-5193.

Comments Due: 5 p.m. ET 8/21/15.

Docket Numbers: ER15-2351-000.

Applicants: Southwest Power Pool, Inc.

Description: Section 205(d) Rate Filing: Alliant Energy Corp. Services Att AH SA 3066/Att AO SA 3071 to be effective 10/1/2015.

Filed Date: 7/31/15.

Accession Number: 20150731-5198.

Comments Due: 5 p.m. ET 8/21/15.

Docket Numbers: ER15-2352-000.

Applicants: Imperial Valley Solar Company (IVSC) 2, LLC.

Description: Compliance filing: Compliance Filing—Request for Waivers MBR Tariff to be effective 8/1/2015.

Filed Date: 7/31/15.

Accession Number: 20150731-5199.

Comments Due: 5 p.m. ET 8/21/15.

Docket Numbers: ER15-2353-000.

Applicants: R.E. Ginna Nuclear Power Plant, LLC.

Description: Section 205(d) Rate Filing: 2015 Normal July to be effective 8/1/2015.

Filed Date: 7/31/15.

Accession Number: 20150731-5200.

Comments Due: 5 p.m. ET 8/21/15.

Docket Numbers: ER15-2354-000.

Applicants: Southwest Power Pool, Inc.

Description: Section 205(d) Rate Filing: Western Area Power Administration Upper Great Plains Region Formula Rate to be effective 10/1/2015.

Filed Date: 7/31/15.

Accession Number: 20150731-5209.

Comments Due: 5 p.m. ET 8/21/15.

Docket Numbers: ER15-2355-000.

Applicants: Entergy Mississippi, Inc.

Description: Tariff Cancellation: EMI Notice of Cancellation of SA 591 to be effective 10/1/2015.

Filed Date: 7/31/15.

Accession Number: 20150731-5211.

Comments Due: 5 p.m. ET 8/21/15.

Docket Numbers: ER15-2356-000.

Applicants: Southwest Power Pool, Inc.

Description: Section 205(d) Rate Filing: 2725R1 MidAmerican Energy Company Market Participant Agr to be effective 10/1/2015.

Filed Date: 7/31/15.

Accession Number: 20150731-5212.

Comments Due: 5 p.m. ET 8/21/15.

Docket Numbers: ER15-2357-000.

Applicants: Indiana Michigan Power Company, PJM Interconnection, L.L.C.

Description: Section 205(d) Rate Filing: AEP submits Twelfth Revised Service Agreement No. 1262 to be effective 7/1/2015.

Filed Date: 7/31/15.

Accession Number: 20150731-5213.

Comments Due: 5 p.m. ET 8/21/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 31, 2015.
Nathaniel J. Davis, Sr.,
Deputy Secretary.

[FR Doc. 2015-19303 Filed 8-5-15; 8:45 am]

BILLING CODE 6717-01-P